DEPARTMENT OF ENERGY

Federal Energy Regulatory Commission

[Docket Nos. RP00-322-001 and RP00-577-001]

Garden Banks Gas Pipeline, LLC; Notice of Compliance Filing

July 12, 2002.

Take notice that on July 5, 2002 Garden Banks Gas Pipeline, LLC (Garden Banks) tendered for filing as part of its FERC Gas Tariff, Original Volume No. 1 the tariff sheets listed on Attachment A to the filing.

Garden Banks states that the purpose of this filing is to comply with the Commission's June 5, 2002 order on Garden Banks' Order No. 637 pro forma compliance filing. Garden Banks is proposing an effective date of September 1, 2002 with the understanding that, in accordance with Ordering Paragraph (B) of the June 5 Order, Garden Banks may not place the revised tariff sheets into effect before further order of the Commission.

Garden Banks states that a copy of this filing has been served to all parties on the official service list compiled by the Secretary of the Commission in these proceedings.

Any person desiring to protest said filing should file a protest with the Federal Energy Regulatory Commission, 888 First Street, NE., Washington, DC 20426, in accordance with Section 385.211 of the Commission's Rules and Regulations. All such protests must be filed on or before July 19, 2002. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-18085 Filed 7-17-02; 8:45 am]

BILLING CODE 6717-01-P